DEPARTMENT OF TRANSPORTATION

Federal Railroad Administration

[Docket Number FRA-2022-0096]

Notice of Application for Approval of Discontinuance or Modification of a Railroad Signal System

Under part 235 of title 49 Code of Federal Regulations (CFR) and 49 U.S.C. 20502(a), this document provides the public notice that on November 2, 2022, and December 1, 2022, Amtrak petitioned the Federal Railroad Administration (FRA) seeking approval to discontinue or modify a signal system. FRA assigned the petition Docket Number FRA-2022-0096.

Specifically, Amtrak requests permission to retire fixed wayside signals between Bridge Interlocking at milepost (MP) 98.2, Baltimore, Maryland, and Grove Interlocking at MP 112.4, Severn, Maryland, on Amtrak's Mid-Atlantic Division, from Main Line Philadelphia to Washington, Northeast Corridor. In its petition, Amtrak states that it plans to “convert approximately [14] miles of its cab signal with fixed automatic block signal system to a signal system having cab signals without fixed automatic block signals, operated under NORAC Rule 562.” Therefore, Amtrak determined that “the automatic block signals are not necessary and require additional maintenance.” Amtrak seeks permission to remove wayside signals at automatic block points in three locations: 1) 994 and 1014 on Track Nos. 1, 2, 3, and A Track; 2) 1031 and 1034 on Track Nos. 2 and 3; and 3) 1054, 1078, and 1102 on Track Nos. 1, 2, and 3. Amtrak adds that all locations will remain in service as block points without wayside signals.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by March 20, 2023 will be considered by FRA before final action is taken. Comments received after that date will be considered if practicable. Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2023-00688 Filed 1-13-23; 8:45 am]

BILLING CODE 4910-06-P